DEPARTMENT OF THE INTERIOR

Minerals Management Service

Applications for Renewable Energy Leases and Grants and Alternate Use Grants on the Outer Continental Shelf

AGENCY: Minerals Management Service (MMS), Interior.

ACTION: Notice.

SUMMARY: This notice provides office addresses for filing applications for renewable energy leases and grants on the Outer Continental Shelf.

FOR FURTHER INFORMATION CONTACT: Maureen A. Bornholdt, Program Manager, Office of Offshore Alternative Energy Programs, 703-787-1300.

SUPPLEMENTARY INFORMATION: On April 22, 2009, President Obama announced that the Department of the Interior finalized the framework for renewable energy production on the Outer Continental Shelf (OCS). A final rule, published in the Federal Register on April 29, 2009 (74 FR 19638), established a program to grant leases, rights-of-use and easements (RUEs), and rights-of-way (ROWs) for orderly, safe, and environmentally responsible renewable energy activities, such as the siting and construction of offshore wind farms, on the OCS.

Applications for renewable energy leases, RUEs and ROWs and alternate use RUEs on the OCS are to be filed with the appropriate MMS Office as outlined in the following table.

Project location by state (offshore) | Filing address
• Delaware | Office of Offshore Alternative Energy Programs, Minerals Management Service, Mail Stop 4090, 381 Elden Street, Herndon, Virginia 20170-4817 Phone: 703-787-1300.
• Massachusetts
• New Hampshire
• New Jersey
• New York
• North Carolina
• Maine
• Maryland
• Rhode Island
• Virginia
• Alabama | Minerals Management Service, Gulf of Mexico OCS Regional Office, Attn: Renewable Energy Program, Lease Applications—Mail Stop 5400, RUEs—Mail Stop 5231, ROWs—Mail Stop 5232, 1201 Elmwood Park Blvd, New Orleans, Louisiana 70123, Phone: 800-200-GULF.
• Florida
• Georgia
• Mississippi
• Louisiana
• South Carolina
• Texas
• California | Minerals Management Service, Pacific OCS Regional Office, Mail Stop 7000, 770 Paseo Camarillo, 2nd Floor, Camarillo, California 93010, Phone: 800-672-2627.
• Hawaii
• Oregon
• Washington
• Alaska | Minerals Management Service, Alaska OCS Regional Office, Mail Stop 8200, Centerpoint Building, 3801 Centerpoint Drive, Suite 500, Anchorage, Alaska 99503, Phone: 907-334-5200.

Dated: June 23, 2009.
Chris C. Oynes,
Associate Director for Offshore Energy and Minerals Management.

[FR Doc. E9-17163 Filed 7-17-09; 8:45 am]

BILLING CODE 4310-MR-P